DEPARTMENT OF ENERGY

Federal Energy Regulatory Commission

[Docket No. CP11-180-000]

Colorado Interstate Gas Company; Notice of Request Under Blanket Authorization

Take notice that on April 7, 2011, Colorado Interstate Gas Company (CIG) filed a prior notice request pursuant to sections 157.205(b), 157.216(b) of the Federal Energy Regulatory Commission's regulations under the Natural Gas Act, for authorization to abandon and remove its Desert Springs Compressor Station located in Sweetwater County, Wyoming, under CIG's blanket certificate issued in Docket No. CP83-21-000.¹ Specifically, CIG proposes to remove all above and below-ground facilities and the abandonment and plugging of an on-site water well, all as more fully set forth in the application, which is open to the public for inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

¹ See Colorado Interstate Gas Company, 3 FERC ¶ 61,165 (1978).

Any questions regarding this prior notice should be directed Susan C. Stires, Director, Regulatory Affairs Department, Colorado Interstate Gas Company, Post Office Box 1087, Colorado Springs, Colorado 8090, or telephone no. (719) 667-7514.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commentary will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Comment Date: May 12, 2011.

Dated: April 21, 2011.
Kimberly D. Bose,
Secretary.

[FR Doc. 2011-10263 Filed 4-27-11; 8:45 am]

BILLING CODE 6717-01-P